DEPARTMENT OF COMMERCE

International Trade Administration

[C-570-054]

Certain Aluminum Foil From the People's Republic of China: Preliminary Results and Rescission, in Part, of Countervailing Duty Administrative Review; 2023

AGENCY: Enforcement and Compliance, International Trade Administration, Department of Commerce.

SUMMARY: The U.S. Department of Commerce (Commerce) preliminarily determines that countervailable subsidies were provided to producers and exporters of certain aluminum foil (aluminum foil) from the People's Republic of China (China). The period of review (POR) is January 1, 2023, through December 31, 2023. In addition, Commerce is rescinding this review, in part, with respect to 18 companies. Interested parties are invited to comment on these preliminary results.

DATES: Applicable August 8, 2025.

FOR FURTHER INFORMATION CONTACT: Natasia Harrison, AD/CVD Operations, Office VI, Enforcement and Compliance, International Trade Administration, U.S. Department of Commerce, 1401 Constitution Avenue NW, Washington, DC 20230; telephone: (202) 482-1240.

SUPPLEMENTARY INFORMATION:

Background

On June 12, 2024, based on timely requests for review, Commerce initiated this administrative review of the countervailing duty (CVD) order on aluminum foil from China.¹ On August 8, 2024, Commerce selected Dingheng New Materials Co., Ltd. (Dingheng) and Shanghai Shenyan Packaging Materials Co., Ltd. (Shenyan) for individual examination as the mandatory respondents in this administrative review.² On August 22, 2024, Shenyan withdrew its request for administrative review of itself and notified Commerce that it would not participate in this review.³ On September 10, 2024, the petitioners ⁴ withdrew their request for review with respect to Dingheng; the petitioners were the only party to request a review of Dingheng in this administrative review.⁵ Subsequently, on October 4, 2024, Commerce selected Jiangsu Zhongji Lamination Materials Co., Ltd. (f/k/a Jiangsu Zhongji Lamination Materials Stock Co., Ltd.) (Zhongji), the Chinese exporter with the next largest volume of entries of subject merchandise during the POR, as an additional mandatory respondent.⁶ On July 22, and December 9, 2024, Commerce tolled certain deadlines in this administrative proceeding by seven days and 90 days, respectively.⁷ On November 6, 2024, Commerce extended the deadline for these preliminary results by 120 days.⁸ The deadline for these preliminary results is now August 5, 2025.

¹ See Initiation of Antidumping and Countervailing Duty Administrative Reviews, 89 FR 49844, 49854 (June 12, 2024) (Initiation Notice); see also Certain Aluminum Foil from the People's Republic of China: Amended Final Affirmative Countervailing Duty Determination and Countervailing Duty Order, 83 FR 17360 (April 19, 2018); see also Certain Aluminum Foil from the People's Republic of China: Notice of Court Decision Not in Harmony With the Amended Final Determination in the Countervailing Duty Investigation, and Notice of Amended Final Determination and Amended Countervailing Duty Order, 85 FR 47730 (August 6, 2020) (collectively, Order).

² See Memorandum, “Respondent Selection,” dated August 8, 2024.

³ See Shenyan's Letters, “Withdrawal of Request for Administrative Review” and “Notice of Intent Not to Participate,” both dated August 22, 2024.

⁴ The petitioners are the Aluminum Association Trade Enforcement Working Group and its individual members: JW Aluminum Company, Novelis Corporation, and Reynolds Consumer Products LLC.

⁵ See Petitioners' Letter, “Petitioners' Partial Withdrawal of Requests for Administrative Reviews,” dated September 10, 2024 (Petitioners' Partial Withdrawal Request).

⁶ See Memorandum, “Selection of Additional Mandatory Respondent for Individual Examination,” dated October 4, 2024.

⁷ See Memorandum, “Tolling of Deadlines for Antidumping and Countervailing Duty Proceedings,” dated July 22, 2024; see also Memorandum, “Tolling of Deadlines for Antidumping and Countervailing Duty Proceedings,” dated December 9, 2024.

⁸ See Memorandum, “Extension of Deadline for Preliminary Results of Countervailing Duty Administrative Review; 2023,” dated November 6, 2024.

For a complete description of the events that followed the initiation of this review, see the Preliminary Decision Memorandum.⁹ A list of topics discussed in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁹ See Memorandum, “Decision Memorandum for the Preliminary Results of the Administrative Review of Countervailing Duty Order on Certain Aluminum Foil from the People's Republic of China; 2023,” dated concurrently with, and hereby adopted by, this notice (Preliminary Decision Memorandum).

Scope of the Order

The product covered by the Order is aluminum foil from China. For a complete description of the scope of the Order, see the Preliminary Decision Memorandum.

Rescission of Administrative Review, in Part

Pursuant to 19 CFR 351.213(d)(1), Commerce will rescind an administrative review, in whole or in part, if the party or parties that requested a review withdraw the request within 90 days of the publication date of the notice of initiation of the requested review. Commerce received timely-filed withdrawal requests with respect to 17 companies, pursuant to 19 CFR 351.213(d)(1). Because the withdrawal requests were timely filed, and no other parties requested a review of these companies, in accordance with 19 CFR 351.213(d)(1), Commerce is rescinding this review of the Order with respect to these companies. For a list of these companies with timely-filed withdrawal of review requests, see Appendix II.

Pursuant to 19 CFR 351.213(d)(3), Commerce will rescind an administrative review when there are no reviewable suspended entries. Based on our analysis of U.S. Customs and Border Protection (CBP) information, we preliminarily determine that 26 companies had no entries of subject merchandise during the POR. On October 24, 2024, we notified parties that we intended to rescind this administrative review with respect to the companies that have no reviewable suspended entries.¹⁰ Certain interested parties commented on this notification of intent to rescind the review, in part.¹¹ We are now rescinding the administrative review of one company that had no reviewable suspended entries, Prosvic Sales, Inc. See Appendix II. For further information, see the Preliminary Decision Memorandum the at the “Rescission of Administrative Review, in Part” section.

¹⁰ See Memorandum, “Notice of Intent to Rescind Review, In Part,” dated October 24, 2024 (Notice of Intent to Partially Rescind Review). This memorandum inadvertently included the following companies that were either examined cross-owned affiliates of mandatory respondent Zhongij or former business names of Zhongji and its cross-owned affiliates: (1) Anhui Maximum Aluminium Industries Co., Ltd.; (2) Anhui Zhongji Battery Foil Sci & Tech Co., Ltd.; (3) Jiangsu Huafeng Aluminium Industry Co., Ltd.; (4) Jiangsu Zhongji Lamination Materials Stock Co., Ltd.; (5) Shantou Wanshun New Material Group Co., Ltd.; and (6) Shantou Wanshun Package Material Stock Co., Ltd. Appropriately, we have examined Zhongji's cross-owned affiliates and have not rescinded the administrative review for these companies.

¹¹ See Petitioners' Letter, “Comments Regarding the Department's Notice of Intent to Partially Rescind Administrative Review,” dated October 31, 2024; see also Zhongji's Letter, “Comments on Notice of Intent to Rescind Review,” dated October 31, 2024; and Petitioners' Letter, “Petitioners' Rebuttal Comments Concerning Zhongji's Comments on Department's Notice of Intent to Rescind Review,” dated November 7, 2024.

Rate for Non-Selected Companies Under Review

The Act and Commerce's regulations do not address the establishment of a rate to apply to companies not selected for individual examination when Commerce limits its examination in an administrative review pursuant to section 777A(e)(2) of the Tariff Act of 1930, as amended. However, Commerce normally determines the rates for non-selected companies in reviews in a manner that is consistent with section 705(c)(5) of the Act, which provides instructions for calculating the all-others rate in an investigation. Section 777A(e)(2) of the Act provides that “the individual countervailable subsidy rates determined under subparagraph (A) shall be used to determine the all-others rate under section 705(c)(5) {of the Act}.” Section 705(c)(5)(A) of the Act states that for companies not investigated, in general, we will determine an all-others rate by weight averaging the countervailable subsidy rates established for each of the companies individually investigated, excluding zero and de minimis rates or any rates based entirely on facts available.

Accordingly, to determine the rate for companies not selected for individual examination, Commerce's practice is to weight-average the net subsidy rates for the selected mandatory respondents, excluding rates that are zero, de minimis, or based entirely on facts available.¹² In this administrative review, Commerce preliminarily assigned a rate based entirely on facts available to Shenyan. Therefore, the only rate that is not zero, de minimis, or based entirely on facts otherwise available is the rate calculated for Zhongji. Consequently, the rate calculated for Zhongji is also assigned as the rate for the companies under review that were not selected for individual examination.

¹² See, e.g., Certain Pasta from Italy: Final Results of the 13th (2008) Countervailing Duty Administrative Review, 75 FR 37386, 37387 (June 29, 2010).

Methodology

Commerce is conducting this review in accordance with section 751(a)(l)(A) of the Act. For each of the subsidy programs found to be countervailable, we preliminarily determine that there is a subsidy, i.e. , a financial contribution by an “authority” that gives rise to a benefit to the recipient, and that the subsidy is specific.¹³ For a full description of the methodology underlying our conclusions, including our reliance, in part, on facts otherwise available with adverse inferences pursuant to sections 776(a) and (b) of the Act, see the accompanying Preliminary Decision Memorandum.

¹³ See sections 771(5)(B) and (D) of the Act regarding financial contribution; section 771(5)(E) of the Act regarding benefit; and section 771(5A) of the Act regarding specificity.

Preliminary Results of Review

As a result of this review, we preliminarily determine the following net countervailable subsidy rates exist for the POR, January 1, 2023, through December 31, 2023:

Company | Subsidy rate ¹⁴ (percent ad valorem)
Jiangsu Zhongji Lamination Materials Co., Ltd. (f/k/a Jiangsu Zhongji Lamination Materials Stock Co., Ltd.) ¹⁵ | 25.25
Shanghai Shenyan Packaging Materials Co., Ltd | 540.55
Non-Selected Companies Under Review ¹⁶ | 27.45

Disclosure

Commerce intends to disclose the calculations and analysis performed to interested parties for these preliminary results within five days of any public announcement or, if there is no public announcement, within five days of the date of publication of this notice in accordance with 19 CFR 351.224(b).

¹⁴ Zhongji's subsidy rate reflects the net countervailable ad valorem subsidy rate with the entered value adjustment (EVA). The rate for Non-Selected Companies Under Review reflects Zhongji's net countervailable ad valorem subsidy rate without the EVA. See Preliminary Decision Memorandum at 5-6.

¹⁵ As discussed in the Preliminary Decision Memorandum, Commerce finds the following companies to be cross-owned with Zhongji: Jiangsu Huafeng Aluminium Industry Co., Ltd. (Jiangsu Huafeng); Shantou Wanshun New Material Group Co., Ltd. (f/k/a Shantou Wanshun Package Material Stock Co., Ltd.) (Shantou Wanshun); Anhui Zhongji Battery Foil Sci&Tech Co., Ltd. (aka Anhui Zhongii Battery Foil Science & Technology Co., Ltd.) (f/k/a Anhui Maximum Aluminium Industries Company Limited) (Anhui Zhongji); Sichuan Wanshun Zhongji Aluminium Industry Co., Ltd.; and Anhui Maximum Aluminum Co., Ltd. (Zhongji HK). Zhongji also reported for its wholly-owned trading company Jiangsu Zhongji Lamination Materials Co., (HK) Limited. Anhui Zhongji, Jiangsu Huafeng, Zhongji HK, and Shantou Wanshun were listed separately in the Initiation Notice.

¹⁶ See Appendix III for a list of the non-selected companies under review.

Public Comment

Case briefs or other written comments may be submitted to the Assistant Secretary for Enforcement and Compliance.¹⁷ Pursuant to 19 CFR 351.309(c)(1)(ii), we have modified the deadline for interested parties to submit case briefs to Commerce no later than 21 days after the date of the publication of this notice. Rebuttal briefs, limited to issues raised in the case briefs, may be filed not later than five days after the date for filing case briefs.¹⁸ Interested parties who submit case briefs or rebuttal briefs in this proceeding must submit: (1) a table of contents listing each issue; and (2) a table of authorities.¹⁹ All briefs must be filed electronically using ACCESS. An electronically filed document must be received successfully in its entirety in ACCESS by 5:00 p.m. Eastern Time on the established deadline.

¹⁷ See 19 CFR 351.309(c)(1)(ii); see also 19 CFR 351.303 (for general filing requirements).

¹⁸ See 19 CFR 351.309(d); see also Administrative Protective Order, Service, and Other Procedures in Antidumping and Countervailing Duty Proceedings, 88 FR 67069, 67077 (September 29, 2023) (APO and Service Procedures).

¹⁹ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.²⁰ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²¹

²⁰ We use the term “issue” here to describe an argument that Commerce would normally address in a comment of the Issues and Decision Memorandum.

²¹ See APO and Service Procedures.

Pursuant to 19 CFR 351.310(c), interested parties who wish to request a hearing must submit a written request to the Assistant Secretary for Enforcement and Compliance, U.S. Department of Commerce, filed electronically via ACCESS by 5:00 p.m. Eastern Time within 30 days after the date of publication of this notice. Requests should contain: (1) the party's name, address, and telephone number; (2) the number of participants; and (3) a list of issues to be discussed. Oral presentations at the hearing will be limited to those raised in the briefs. If a request for a hearing is made, Commerce will inform parties of the scheduled date for the hearing.²²

²² See 19 CFR 351.310(d).

Assessment Rates

Consistent with section 751(a)(1) of the Act and 19 CFR 351.212(b)(2), upon issuance of the final results, Commerce shall determine, and U.S. Customs and Border Protection (CBP) shall assess, countervailing duties on all appropriate entries covered by this review.

For the companies listed in Appendix II for which the review is being rescinded, Commerce will instruct CBP to assess countervailing duties on all appropriate entries at a rate equal to the cash deposit of estimated countervailing duties required at the time of entry, or withdrawal from warehouse, for consumption, during the period January 1, 2023, through December 31, 2023, in accordance with 19 CFR 351.212(c)(1)(i). Commerce intends to issue rescission instructions to CBP no earlier than 35 days after the date of publication of this rescission in the Federal Register.

For the companies remaining in the review, Commerce will instruct CBP to assess countervailing duties on all appropriate entries at the subsidy rates calculated in the final results of this review. Commerce intends to issue assessment instructions to CBP no earlier than 35 days after the date of publication of the final results of this review in the Federal Register.

If a timely summons is filed at the U.S. Court of International Trade, the assessment instructions will direct CBP not to liquidate relevant entries until the time for parties to file a request for a statutory injunction has expired (i.e., within 90 days of publication).

Cash Deposit Requirements

Pursuant to section 751(a)(2)(C) of the Act, Commerce intends to instruct CBP to collect cash deposits of estimated countervailing duties in the amount indicated above with regard to shipments of subject merchandise entered, or withdrawn from warehouse, for consumption on or after the date of publication of the final results of this review. For all non-reviewed firms, we will instruct CBP to continue to collect cash deposits of estimated countervailing duties at the most recent company-specific or all-others rate applicable to the company, as appropriate. These cash deposit instructions, when imposed, shall remain in effect until further notice.

Final Results

Unless the deadline is extended, we intend to issue the final results of this administrative review, which will include the results of our analysis of the issues raised in the case briefs, within 120 days of publication of these preliminary results in the Federal Register, pursuant to section 751(a)(3)(A) of the Act.

Notification to Interested Parties

We are issuing and publishing these preliminary results in accordance with sections 751(a)(1) and 777(i)(1) of the Act and 19 CFR 351.221(b)(4).

Dated: August 5, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Rescission of Administrative Review, in Part

IV. Non-Selected Companies Under Review

V. Scope of the Order

VI. Diversification of China's Economy

VII. Subsidies Valuation

VIII. Interest Rate Benchmarks, Discount Rates, and Benchmarks For Measuring the Adequacy of Remuneration

IX. Use of Facts Otherwise Available and Adverse Inferences

X. Analysis of Programs

XI. Recommendation

Appendix II

Companies Rescinded From the Review

A. Withdrawal of Request for Review ²³

²³ See Petitioners” Partial Withdrawal Request; see also Notice of Intent to Partially Rescind Review.

1. Alcha International Holdings Limited

2. Baotou Alcha Aluminum Co., Ltd..

3. Gränges Aluminum (Shanghai) Co., Ltd.

4. Guangxi Baise Xinghe Aluminum Industry Co., Ltd.

5. Hunan Suntown Marketing Limited

6. Jiangyin Dolphin Pack Ltd. Co.

7. Luoyang Longding Aluminium Industries Co., Ltd.

8. Shandong Yuanrui Metal Material Co., Ltd.

9. Shanghai Huafon Aluminium Corporation

10. Shanghai Shenhuo Aluminium Foil Co., Ltd.

11. SNTO International Trade Limited

12. Suntown Technology Group Corporation Limited

13. Xiamen Xiashun Aluminum Foil Co., Ltd.

14. Yantai Donghai Aluminum Co., Ltd.

15. Yantai Jintai International Trade Co., Ltd.

16. Yinbang Clad Material Co., Ltd.

17. Zhejiang Zhongjin Aluminum Industry Co., Ltd.

B. No Suspended Entries during the POR ²⁴

²⁴ See Notice of Intent to Partially Rescind Review.

1. Prosvic Sales, Inc.

Appendix III

Non-Selected Companies Under Review

1. Dingheng New Materials Co., Ltd.

2. Dingsheng Aluminium Industries (Hong Kong) Trading Co., Ltd.

3. Hangzhou DingCheng Aluminum Co., Ltd.

4. Hangzhou Dingsheng Import & Export Co., Ltd.

5. Hangzhou Dingsheng Industrial Group Co. Ltd.

6. Hangzhou Five Star Aluminium Co., Ltd.

7. Hangzhou Teemful Aluminium Co., Ltd.

8. Inner Mongolia Liansheng New Energy Material Co., Ltd.

9. Inner Mongolia Liansheng New Energy Material Joint-Stock Co., Ltd.

10. Inner Mongolia Xinxing New Energy Material Co., Ltd.

11. Inner Mongolia Xinxing New Material Co., Ltd.

12. Jiangsu Dingsheng New Materials Joint-Stock Co., Ltd.;

13. Thai Ding Li New Materials Co., Ltd.

14. Walson (HK) Trading Co., Limited.

[FR Doc. 2025-15129 Filed 8-7-25; 8:45 am]

BILLING CODE 3510-DS-P